OFFICE OF PERSONNEL MANAGEMENT

Privacy Act of 1974: New System of Records

AGENCY: Office of Personnel Management (OPM)

ACTION: Notice of a new system of records.

SUMMARY: OPM proposes to add a new system of records to its inventory of records systems subject to the Privacy Act of 1974 (5 U.S.C. 552a), as amended. This action is necessary to meet the requirements of the Privacy Act to publish in the Federal Register notice of the existence and character of records maintained by the agency (5 U.S.C. 552a(e)(4)).

DATES: The new system will be effective without further notice on September 24, 2001, unless we receive comments that result in a contrary determination.

ADDRESSES: Send written comments to the Office of Personnel Management, ATTN: Mary Beth Smith-Toomey, Office of the Chief Information Officer, 1900 E Street, NW., Room 5415, Washington, DC 20415-7900.

FOR FURTHER INFORMATION CONTACT: Mary Beth Smith-Toomey, 202-606-8358.

SUPPLEMENTARY INFORMATION: The Adjudications Officer Control Files records system will contain records of individuals, other than OPM employees: (1) Who work on an OPM-Investigations Service (IS) contract; (2) who need to access IS facilities or use IS equipment; or (3) about whom OPM-IS has provided a suitability or security adjudication advisory opinion at the request of another Federal agency's adjudication or security office. OPM will collect data by compilation of various documents related to the process of adjudication.

Office of Personnel Management
Kay Coles James,
Director.

OPM INTERNAL 16

SYSTEM NAME:

Adjudications Officer Control Files.

SYSTEM LOCATION:

Office of Personnel Management (OPM), Investigations Service (IS), Federal Investigations Processing Center, PO Box 618, Boyers, Pennsylvania 16018-0618.

CATEGORIES OF INDIVIDUALS COVERED BY THE SYSTEM:

This system contains records on individuals, other than OPM employees: (1) Who work on an OPM-Investigations Service (IS) contract; (2) who need to access IS facilities or use IS equipment; or (3) about whom OPM—IS has provided a suitability or security adjudication advisory opinion at the request of another Federal agency's adjudication or security office.

CATEGORIES OF RECORDS IN THE SYSTEM:

The records in the system may contain the following:

a. Documents completed by the individual.

b. Dates and types of investigations.

c. Investigative reports, including those from Federal investigative agencies, the Department of Defense, and internal and external inquiries.

d. Records of suitability or security determinations.

e. Dates and levels of security clearances and supporting documentation.

f. Records of disclosures of information. g.Information related to an individual's work performance on an OPM—IS contract.

h. Documents concerning an individual's conduct problems or security and policy violations related to an OPM—IS contract or use of OPM equipment or facilities.

i. Correspondence between OPM—IS and an agency or an individual.

j. Correspondence related to administrative review procedures.

AUTHORITY FOR MAINTENANCE OF THE SYSTEM:

The authorities for maintenance of the system include the following, with any revisions or amendments: Executive Orders 10450, 12958 and 12968.

ROUTINE USES OF RECORDS MAINTAINED IN THE SYSTEM, INCLUDING CATEGORIES OF USERS AND THE PURPOSES OF SUCH USES:

Information in these records may be used:

1. For Judicial/Administrative Proceedings—To disclose information to another Federal agency, to a court, or a party in litigation before a court or in an administrative proceeding being conducted by a Federal agency, when the Government is a party to the judicial or administrative proceeding. In those cases where the Government is not a party to the proceeding, records may be disclosed if a subpoena has been signed by a judge.

2. For National Archives and Records Administration—To disclose information to the National Archives and Records Administration for use in records management inspections.

3. Within OPM for Statistical/Analytical Studies—By OPM in the production of summary descriptive statistics and analytical studies in support of the function for which the records are collected and maintained, or for related workforce studies. While published studies do not contain individual identifiers, in some instances the selection of elements of data included in the study may be structured in such a way as to make the data individually identifiable by inference.

4. For Litigation—To disclose information to the Department of Justice, or in a proceeding before a court, adjudicative body or other administrative body before which OPM is authorized to appear, when: OPM, or any component thereof; or any employee of OPM in his or her official capacity; or any employee of OPM in his or her individual capacity where the Department of Justice or OPM has agreed to represent the employee; or the United States, when OPM determines that litigation is likely to affect OPM or any of its components; is a party to litigation or has an interest in such litigation, and the use of such records by the Department of Justice or OPM is deemed by OPM to be relevant and necessary to the litigation provided, however, that the disclosure is compatible with the purpose for which records were collected.

5. For the Merit Systems Protection Board—To disclose information to officials of the Merit Systems Protection Board or the Office of the Special Counsel, when requested in connection with appeals, special studies of the civil service and other merit systems, review of OPM rules and regulations, investigations of alleged or possible prohibited personnel practices, and such other functions, e.g., as promulgated in 5 U.S.C. 1205 and 1206, or as may be authorized by law.

6. For the Equal Employment Opportunity Commission—To disclose information to the Equal Employment Opportunity Commission when requested in connection with investigations into alleged or possible discrimination practices in the Federal sector, compliance by Federal agencies with the Uniform Guidelines on Employee Selection Procedures or other functions vested in the Commission and to otherwise ensure compliance with the provisions of 5 U.S.C. 7201.

7. For the Federal Labor Relations Authority—To disclose information to the Federal Labor Relations Authority or its General Counsel when requested in connection with investigations of allegations of unfair labor practices or matters before the Federal Service Impasses Panel.

8. For Certain Disclosures to Other Federal Agencies—To disclose relevant and necessary information to designated officers and employees of agencies, offices and other establishments in all branches of the Federal Government for:

(a) Conducting suitability or security investigations,

(b) Classifying jobs,

(c) Hiring or retaining employees,

(d) Evaluating qualifications, suitability and loyalty to the United States Government,

(e) Granting access to classified information or restricted areas,

(f) Letting a contract, issuing a license, grant, or other benefit, or

(g) Providing a service performed under a contract or other agreement.

9. For Law Enforcement Purposes—To disclose information to the appropriate Federal, State, local, tribal, foreign or other public authority responsible for investigating, prosecuting, enforcing or implementing a statute, rule, regulation or order when OPM—IS becomes aware of an indication of a violation or potential violation of civil or criminal law or regulation.

10. For Congressional Inquiry—To disclose information to a congressional office in response to an inquiry made on behalf of an individual. Information will only be released to a congressional office if OPM receives a notarized authorization from the individual.

11. For Non-Federal Personnel—To disclose information to contractors or volunteers performing or working on a contract, service or job for the Federal Government, regarding permission for an individual to work on an OPM—IS contract or use OPM—IS facilities or equipment, or be granted a security clearance.

PURPOSE(S)

OPM—IS Adjudications Officers and Contract Administrators, or designees, use these records for making suitability or security determinations, granting security clearances for access to classified information, determining the need and eligibility to use OPM—IS facilities or equipment, assigning position sensitivity and documenting an individual's performance and conduct on an OPM—IS contract.

POLICIES AND PRACTICES OF STORING, RETRIEVING, SAFEGUARDING, RETAINING, AND DISPOSING OF RECORDS IN THE SYSTEM

STORAGE:

OPM-IS maintains these records in file folders and in electronic databases.

RETRIEVABILITY:

Records are retrieved by the name and date of birth or Social Security Number of the individual about whom they are maintained.

SAFEGUARDS:

OPM stores the file folders in locked, metal file cabinets in a secured room. OPM restricts access to the records on the databases to employees who have the appropriate clearance and need-to-know.

RETENTION AND DISPOSAL:

We maintain the records 3 years (as authorized/prescribed by the National Archives and Records Administration's General Records Schedules) after the individual's contract status with OPM-IS ends, the need to use OPM-IS equipment or facilities has terminated or the Federal agency notifies OPM-IS that the person whose case OPM-IS adjudicated has separated from that agency. OPM maintains records of disclosures of information from this system for 5 years after the disclosure is made or the life of the record, whichever is longer. Classified Information Nondisclosure Agreements (Standard Form 312) signed by individuals are maintained for 70 years.

Contents of the file folders are destroyed by shredding and recycling and computer records are destroyed by electronic erasure.

SYSTEM MANAGER(S) AND ADDRESS:

Associate Director, Investigations Service, Office of Personnel Management, Room 5416, 1900 E Street, NW., Washington, DC 20415-4000.

NOTIFICATION AND RECORD ACCESS PROCEDURE:

Specific materials in this system have been exempted from Privacy Act provisions at 5 U.S.C. 552a(c)(3) and (d) regarding accounting of disclosures and access to and amendment of records. The section of this notice titled “System Exemptions” indicates the kinds of material exempted and the reasons for exempting them from access. Individuals wishing to ask if this system of records contains information about them or to request access to their record should write to FOI/P, OPM, Federal Investigations Processing Center, PO Box 618, Boyers, PA 16018-0618. Individuals must furnish the following information for their record to be located:

1. Full name.

2. Date and place of birth.

3. Social Security Number.

4. Signature.

5.Available information regarding the type of information requested.

6. The reason why the individual believes this system contains information about him/her.

7. The address to which the information should be sent.

Individuals requesting access must also comply with OPM's Privacy Act regulations regarding verification of identity and access to records (5 CFR part 297).

CONTESTING RECORD PROCEDURE:

Specific materials in this system have been exempted from Privacy Act provisions at 5 U.S.C. 552a(d) regarding access to and amendment of records. The section of this notice titled “System Exemptions” indicates the kinds of material exempted and the reasons for exempting them from amendment. Individuals wishing to request amendment of their non-exempt records should write to the Federal Investigations Processing Center and furnish the following information for their record to be located:

1. Full name.

2. Date and place of birth.

3. Social Security Number.

4. Signature.

5.Precise identification of the information to be amended.

Individuals requesting amendment must also follow OPM's Privacy Act regulations regarding verification of identity and amendment to records (5 CFR part 297).

RECORD SOURCE CATEGORIES:

Information in this system of records is obtained from:

1. The individual to whom the information applies.

2.OPM-IS investigative files.

3. Officials of OPM and OPM-IS contractors.

4. Federal agencies, the Department of Defense, and external and internal inquiries.

5. The public.

SYSTEM EXEMPTED FROM CERTAIN PROVISIONS OF THE ACT:

All information in these records that meets the criteria stated in 5 U.S.C. 552a(k)(1), (2), (3), (4), (5), (6) or (7) is exempt from the requirements of the Privacy Act that relate to providing an accounting of disclosures to the data subject and access to and amendment of records (5 U.S.C. 552(c)(3) and (d)).

5 U.S.C. 552a(k)

1. Properly classified information obtained from another Federal agency during the course of a personnel investigation, which pertains to national defense and foreign policy.

2. Investigatory material compiled for law enforcement purposes other than material within the scope of this subsection.

3. Investigatory material maintained in connection with providing protective services to the President of the United States or other individuals pursuant to section 3056 of title 18 of the U.S. Code.

4. Investigatory material that is required by statute to be maintained and used solely as a statistical record.

5. Investigatory material compiled solely for the purpose of determining suitability, eligibility or qualifications for Federal civilian employment and Federal contact or access to classified information. Materials may be exempted to the extent that release of the material to the individual whom the information is about would reveal the identity of a source who furnished information to the Government under an express promise that the identity of the source would be held in confidence or, prior to September 27, 1975, furnished information to the Government under an implied promise that the identity of the source would be held in confidence.

6. Testing and examination materials, compiled during the course of a personnel investigation, that are used solely to determine individual qualifications for appointment or promotion in the Federal service, when disclosure of the material would compromise the objectivity or fairness of the testing or examination process.

7. Evaluation materials, compiled during the course of a personnel investigation, that are used solely to determine potential for promotion in the armed services can be exempted to the extent that the disclosure of the data would reveal the identity of a source who furnished information to the Government under an express promise that the identity of the source would be held in confidence or, prior to September 27, 1975, under an implied promise that the identity of the source would be held in confidence.

[FR Doc. 01-20220 Filed 8-10-01; 8:45 am]

BILLING CODE 6325-40-P